SMALL BUSINESS ADMINISTRATION

[Declaration of Disaster #3578]

State of Iowa

As a result of the President's major disaster declaration on May 25, 2004, I find that Bremer, Buchanan, Butler, Cass, Cerro Gordo, Clayton, Delaware, Fayette, Hancock, Humboldt, Jones, Linn, Mitchell, and Pocahontas counties in the State of Iowa constitute a disaster area due to damages caused by severe storms, tornadoes, and flooding occurring on May 19, 2004, and continuing. Applications for loans for physical damage as a result of this disaster may be filed until the close of business on July 26, 2004 and for economic injury until the close of business on February 25, 2005 at the address listed below or other locally announced locations: U.S. Small Business Administration, Disaster Area 3 Office, 14925 Kingsport Road, Fort Worth, TX 76155.

In addition, applications for economic injury loans from small businesses located in the following contiguous counties may be filed until the specified date at the above location: Adair, Adams, Allamakee, Audobon, Benton, Black Hawk, Buena Vista, Calhoun, Cedar, Chickasaw, Clay, Clinton, Dubuque, Floyd, Franklin, Grundy, Guthrie, Hardin, Howard, Iowa, Jackson, Johnson, Kossuth, Montgomery, Palo Alto, Pottawattamie, Sac, Shelby, Webster, Winnebago, Winneshiek, Worth, and Wright in the State of Iowa; Mower county in the State of Minnesota; and Crawford and Grant counties in the State of Wisconsin.

The interest rates are:

| Percent
For Physical Damage:
Homeowners with Credit Available Elsewhere: | 5.750
Homeowners Without Credit Available Elsewhere: | 2.875
Businesses with Credit Available Elsewhere: | 5.500
Businesses and Non-Profit Organizations Without Credit Available Elsewhere: | 2.750
Others (Including Non-Profit Organizations) with Credit Available Elsewhere: | 4.875
For Economic Injury:
Businesses and Small Agricultural Cooperatives Without Credit Available Elsewhere: | 2.750

The number assigned to this disaster for physical damage is 357812. For economic injury the number is 9ZF200 for Iowa; 9ZF300 for Minnesota; and 9ZF400 for Wisconsin.

(Catalog of Federal Domestic Assistance Program Nos. 59002 and 59008).

Dated: May 26, 2004.
Herbert L. Mitchell,
Associate Administrator for Disaster Assistance.

[FR Doc. 04-12406 Filed 6-1-04; 8:45 am]

BILLING CODE 8025-01-P